NATIONAL TRANSPORTATION SAFETY BOARD

Sunshine Act Meeting

TIME AND DATE: 9:30 a.m., Tuesday, October 22, 2019.

PLACE: NTSB Conference Center, 429 L'Enfant Plaza SW, Washington, DC 20594.

STATUS: The one item is open to the public.

MATTERS TO BE CONSIDERED: 59567 Highway Accident Report—Pedestrian Bridge Collapse Over SW 8th Street, Miami, Florida, March 15, 2018.

CONTACT PERSON FOR MORE INFORMATION: Candi Bing at (202) 314-6403 or by email at bingc@ntsb.gov.

Media Information Contact: Chris O'Neil by email at chris.oneil@ntsb.gov or at (202) 314-6100

The press and public may enter the NTSB Conference Center one hour prior to the meeting for set up and seating.

Individuals requesting specific accommodations should contact Rochelle McCallister at (202) 314-6305 or by email at Rochelle.McCallister@ntsb.gov by Wednesday, October 16, 2019.

The public may view the meeting via a live or archived webcast by accessing a link under “News & Events” on the NTSB home page at www.ntsb.gov.

Schedule updates, including weather-related cancellations, are also available at www.ntsb.gov.

The National Transportation Safety Board is holding this meeting under the Government in the Sunshine Act, 5 U.S.C. 552(b).

Dated: Friday October 3, 2019.
LaSean R. McCray,
Alternate Federal Register Liaison Officer.

[FR Doc. 2019-21918 Filed 10-3-19; 4:15 pm]

BILLING CODE 7533-01-P